DEPARTMENT OF JUSTICE

Bureau of Alcohol, Tobacco, Firearms, and Explosives

27 CFR Part 555

[Docket No. ATF 2017R-21; AG Order No. 4425-2019]

Removal of Expired Regulations

AGENCY: Bureau of Alcohol, Tobacco, Firearms, and Explosives, Department of Justice.

ACTION: Final rule.

SUMMARY: This final rule makes technical amendments to the Bureau of Alcohol, Tobacco, Firearms, and Explosives (ATF) regulations in the Code of Federal Regulations (CFR). These technical changes are being made to remove expired, obsolete, or unnecessary regulations; correct dates, titles, addresses, and telephone numbers; and to reflect changes to nomenclature resulting from the transfer of ATF to the Department of Justice from the Department of the Treasury pursuant to the Homeland Security Act of 2002. The changes are designed to update and provide clarity throughout these regulations.

DATES: This rule is effective April 8, 2019.

FOR FURTHER INFORMATION CONTACT: Shermaine Kenner, Office of Regulatory Affairs, Enforcement Programs and Services, Bureau of Alcohol, Tobacco, Firearms, and Explosives, U.S. Department of Justice, 99 New York Avenue NE, Washington, DC 20226; telephone: (202) 648-7070 (this is not a toll-free number).

SUPPLEMENTARY INFORMATION:

I. Backgrounds

ATF administers regulations published in 27 CFR part 555, concerning commerce in explosives. ATF identified several technical amendments that are needed to update and to provide clarity to these regulations.

Rather than make substantive changes to the regulations, these amendments focus on improving the clarity and accuracy of the regulations. Many of the technical changes reflect the removal of expired or obsolete regulations; removal of regulations that are no longer necessary; and the correction of dates, titles, addresses, and telephone numbers. Additionally, technical changes to § 555.11 reflect a change in nomenclature resulting from the transfer of ATF to the Department of Justice from the Department of the Treasury pursuant to the Homeland Security Act of 2002.

Section 555.11 is being amended to remove paragraph (a) and revise paragraph (b) in the definitions of “ATF”, “ATF Officer”, “Bureau”, and “Director” as the information in the regulations is obsolete, to revise the definition of “Director, Industry Operations” for accuracy, and to replace “Bureau of Alcohol, Tobacco and Firearms” with “Bureau of Alcohol, Tobacco, Firearms, and Explosives, Department of Justice” in the definition of “Region” as the current definition references the name of the agency under the Department of the Treasury, prior to the Homeland Security Act of 2002.

Section 555.27 is being removed and reserved as the requirement in the statute that this regulation implemented is expired and obsolete.

Section 555.30 is being amended to reflect the correct nationwide toll-free telephone number, and the reference to Form 4712 is being removed as this information is no longer necessary and is obsolete.

Sections 555.33, 555.142, and 555.165 are being amended to remove the effective dates, which are no longer necessary.

Sections 555.41, 555.49, 555.51, 555.103, and 555.125 are being amended to remove and reserve paragraph (a) in each of these sections as the information in those paragraphs is obsolete.

Section 555.45 is being amended to remove and reserve paragraphs (a) and (b) as the information in those paragraphs is obsolete.

Section 555.57 is being amended to remove “For all licenses or permits issued on and after May 24, 2003” as this delineation is no longer necessary.

Section 555.102 is being amended to remove paragraph (b)(1) and revise paragraph (b)(2) as the information in those paragraphs is obsolete.

Section 555.105 is being amended to remove the reference to nonlicensees and nonpermittees in the heading of the section, and to remove and reserve paragraph (a) as the information in the regulation is obsolete.

Section 555.126 is being amended to revise the heading of the section, and to remove and reserve paragraph (a) as the information in the regulation is obsolete.

Section 555.201 is being amended to remove and reserve paragraph (e) as the application of this paragraph is obsolete.

Section 555.202 is being amended to remove “See also § 555.201(e).” as the referenced sentence is obsolete.

Section 555.218 is being amended to remove the date “July, 1991” from the table title and replace it with “June 1991”, the correct date.

Section 555.219 is being amended to add the title of the table, as the title was incorrectly added to the table in 555.220 when published in the Federal Register.

Section 555.220 is being amended to remove the title above the table and remove the address for the Fertilizer Institute, as this information is incorrect.

Section 555.224 is being amended to remove “(30 days from the date of publication of the final rule in the Federal Register)” and to add the effective date in the third footnote.

II. Statutory Orders and Executive Review

A. Executive Orders 12866, 13563, and 13771

This rule has been drafted and reviewed in accordance with Executive Order 12866, “Regulatory Planning and Review,” section 1(b), The Principles of Regulation; Executive Order 13563, “Improving Regulation and Regulatory Review,” section 1(b), General Principles of Regulation; and Executive Order 13771, “Reducing Regulation and Controlling Regulatory Costs.”

The rule makes technical corrections to eliminate outdated and incorrect terminology and improve the clarity of the regulations, and makes no substantive changes. The Department has determined that this final rule is not a “significant regulatory action” as defined in Executive Order 12866, section 3(f). Accordingly, this final rule has not been reviewed by the Office of Management and Budget.

Finally, because this rule is not a significant regulatory action, it is not subject to the requirements of Executive Order 13771. There are no costs associated with this regulation; however, it benefits the industry in that it removes numerous outdated regulations and provides clarity for the regulated industry. Because there are no costs associated with this final rule, there are no monetized benefits. This rule is considered a deregulatory action under Executive Order 13771.

B. Executive Order 13132

This final rule will not have substantial direct effects on the States, on the relationship between the Federal Government and the States, or on the distribution of power and responsibilities among the various levels of government. Therefore, in accordance with section 6 of Executive Order 13132, “Federalism,” the Attorney General has determined that this regulation does not have sufficient federalism implications to warrant the preparation of a federalism summary impact statement.

C. Executive Order 12988

This regulation meets the applicable standards set forth in sections 3(a) and 3(b)(2) of Executive Order 12988, “Civil Justice Reform.”

D. Administrative Procedure Act

Under the Administrative Procedure Act (“APA”), 5 U.S.C. 553(b)(3)(B), an agency may, for good cause, find that the usual requirements of prior notice and comment are impracticable, unnecessary, or contrary to the public interest. Currently, 27 CFR part 555 contains references to expired regulations and has obsolete, outdated, and incorrect terminology that may be confusing to the public. The rule makes technical corrections to improve the clarity of the regulations and makes no substantive changes. For these reasons, the agency has determined that publishing a notice of proposed rulemaking and providing opportunity for public comment is unnecessary.

Further, the APA permits an agency to make this rule effective upon date of publication, because it is not a substantive rule. See 5 U.S.C. 553(d). Furthermore, the Department finds that there is good cause for the final rule to take effect upon publication, since the revisions made by this rule are minor, non-substantive, and technical, and there is no reason to delay these changes. Id., § 553(d)(3).

E. Regulatory Flexibility Act

In accordance with the Regulatory Flexibility Act, 5 U.S.C. 603, 604, and 605(b), a Regulatory Flexibility Analysis is not required for this final rule because the Department was not required to publish a general notice of proposed rulemaking for this matter.

F. Unfunded Mandates Reform Act of 1995

This rule will not result in the expenditure by State, local, and tribal governments, in the aggregate, or by the private sector, of $100 million or more in any one year, and it will not significantly or uniquely affect small governments. Therefore, no actions were deemed necessary under the provisions of the Unfunded Mandates Reform Act of 1995, 2 U.S.C. 1531-1535.

G. Paperwork Reduction Act of 1995

This final rule does not impose any new reporting or recordkeeping requirements under the Paperwork Reduction Act, 44 U.S.C. 3501-3521.

H. Congressional Review Act

This rule is not a major rule as defined by the Congressional Review Act, 5 U.S.C. 804.

List of Subjects in 27 CFR Part 555

Administrative practice and procedure, Customs duties and inspection, Explosives, Hazardous substances, Imports, Penalties, Reporting and recordkeeping requirements, Safety, Security measures, Seizures and forfeitures, Transportation, and Warehouses.

Authority and Issuance

Accordingly, for the reasons discussed in the preamble, 27 CFR part 555 is amended as follows:

PART 555—COMMERCE IN EXPLOSIVES

1. The authority citation for 27 CFR part 555 continues to read as follows:

Authority: 18 U.S.C. 847.

§ 555.11 [Amended]

2. Amend § 555.11 as follows:

a. In the definition of “ATF”:

i. Remove paragraph (a);

ii. Remove the (b) designation; and

iii. Remove “On and after January 24, 2003.” and “, Washington, DC”;

b. In the definition of “ATF Officer”:

i. Remove paragraph (a);

ii. Remove the (b) designation;

iii. Remove “On and after January 24, 2003.”; and

iv. Add “, Department of Justice” after “(ATF)”;

c. In the definition of “Bureau”:

i. Remove paragraph (a);

ii. Remove the (b) designation; and

iii. Remove “On and after January 24, 2003.” and “, Washington, DC”;

d. In the definition of “Director”:

i. Remove paragraph (a);

ii. Remove the (b) designation; and

iii. Remove “On and after January 24, 2003.” and “, Washington, DC”;

e. In the definition of “Director, Industry Operations” remove “principal regional official” and add in its place “principal field division official”; and

f. In the definition of “Region” remove “Bureau of Alcohol, Tobacco and Firearms” and add in its place “Bureau of Alcohol, Tobacco, Firearms, and Explosives, Department of Justice”.

§ 555.27 [Removed and Reserved]

3. Remove and reserve § 555.27.

§ 555.30 [Amended]

4. Amend § 555.30 as follows:

a. Remove “1-800-800-3855” in paragraphs (a), (b), and (d) introductory text and add in its place “1-800-461-8841”; and

b. Remove “(formerly Form 4712)” in paragraph (a).

§ 555.33 [Amended]

5. In § 555.33, remove “(effective May 24, 2003)” from the section heading.

§ 555.41 [Amended]

6. In § 555.41, remove and reserve paragraph (a).

§ 555.45 [Amended]

7. In § 555.45, remove and reserve paragraphs (a) and (b).

§ 555.49 [Amended]

8. In § 555.49, remove and reserve paragraph (a).

§ 555.51 [Amended]

9. In § 555.51, remove and reserve paragraph (a).

§ 555.57 [Amended]

10. In § 555.57, remove “For all licenses or permits issued on and after May 24, 2003, each person” in paragraph (b) and add in its place “Each person”.

§ 555.102 [Amended]

11. Amend § 555.102 as follows:

a. Remove paragraph (b)(1); and

b. Remove the paragraph (b)(2) designation and its heading “Distribution of surplus stocks on and after May 24, 2003.”.

§ 555.103 [Amended]

12. Amend § 555.103 by removing and reserving paragraph (a).

§ 555.105 [Amended]

13. Amend § 555.105 by removing “nonlicensees, nonpermittees, and” from the section heading and removing and reserving paragraph (a).

§ 555.125 [Amended]

14. Amend § 555.125 by removing and reserving paragraph (a).

§ 555.126 [Amended]

15. Amend § 555.126 by removing “Explosives transaction record for distribution of explosive materials prior to May 24, 2003 and” and “on and after May 24, 2003” from the section heading and removing and reserving paragraph (a).

§ 555.142 [Amended]

16. In § 555.142, remove “(effective January 24, 2003)” from the section heading.

§ 555.165 [Amended]

17. In § 555.165, remove “On and after January 24, 2003, any licensee or permittee” in paragraph (b) and add in its place “Any licensee or permittee”.

§ 555.201 [Amended]

18. In § 555.201, remove and reserve paragraph (e).

§ 555.202 [Amended]

19. In § 555.202, remove “See also § 555.201(e).” in paragraph (a).

§ 555.218 [Amended]

20. In § 555.218, remove “July, 1991” in the table heading and add in its place “June 1991”.

§ 555.219 [Amended]

21. In § 555.219, add the table heading “TABLE: DEPARTMENT OF DEFENSE AMMUNITION AND EXPLOSIVES STANDARDS, TABLE 5-4.1 EXTRACT; 4145.27 M, MARCH 1969” below the table.

§ 555.220 [Amended]

22. Amend § 555.220 as follows:

a. Remove “TABLE: DEPARTMENT OF DEFENSE AMMUNITION AND EXPLOSIVES STANDARDS, TABLE 5-4.1 EXTRACT; 4145.27 M, MARCH 1969” from above the table; and

b. Remove “1015 18th St. N.W., Washington, DC 20036” in the footnote to paragraph (3).

§ 555.224 [Amended]

23. Amend § 555.224 as follows:

a. Remove “(30 days from the date of publication of the final rule in the Federal Register)” in footnote 3 and add in its place “March 7, 1990”; and

b. Add “(55 FR 3717)”at the end of footnote 3.

Dated: April 2, 2019.
William P. Barr,
Attorney General.

[FR Doc. 2019-06912 Filed 4-5-19; 8:45 am]

BILLING CODE 4410-FY-P